DEPARTMENT OF ENERGY

Federal Energy Regulatory Commission

[Project No. 12514-056]

Northern Indiana Public Service Company; Notice of Application for Amendment of License and Soliciting Comments, Motions To Intervene and Protests

Take notice that the following hydroelectric application has been filed with the Commission and is available for public inspection:

a. Application Type: Temporary variance of license article 403.

b. Project No: 12514-056.

c. Date Filed: August 3, 2012.

d. Applicant: Northern Indiana Public Service Company (licensee).

e. Name of Project: Norway-Oakdale Hydroelectric Project.

f. Location: The Norway-Oakdale Project is located on the Tippecanoe River near the town of Monticello, in Carroll and White counties, Indiana. The project consists of the upper Norway development and the lower Oakdale development each of which has a dam and powerhouse.

g. Filed Pursuant to: Federal Power Act, 16 U.S.C. 791a-825r.

h. Applicant Contact: Mr. Justin Darling, Hydro Supervisor—Chemical and Environmental Compliance, Northern Indiana Public Service Company, 1414 W. Broadway, Monticello, IN 47960, 574-583-1154.

i. FERC Contact: Ms. Kelly Houff at 202-502-6393, kelly.houff@ferc.gov, or Mr. Robert Ballantine at 202-502-6289, robert.ballantine@ferc.gov.

j. Deadline for filing comments, motions to intervene, and protests: August 24, 2012.

All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street NE., Washington, DC 20426. Commenters can submit brief comments up to 6,000 characters, without prior registration, using the eComment system at http://www.ferc.gov/docs-filing/ecomment.asp. You must include your name and contact information at the end of your comments.

Please include the project number (P-12514-056) on any comments, motions, or recommendations filed.

k. Description of Request: Northern Indiana Public Service Company, licensee for the Norway-Oakdale Hydroelectric Project, requests the Commission to grant a temporary variance of license Article 403 due to regional drought conditions. Article 403, in part, requires the licensee to operate the project in a run-of-river manner where, project outflow is equal to project inflow and to maintain lake elevations of Lake Shafer within ±0.25 feet of elevation 647.47 feet National Geodetic Vertical Datum (NGVD) and Lake Freeman within ±0.25 feet of elevation 612.45 NGVD. The U.S. Fish and Wildlife Service and the Indiana Department of Natural Resources have determined that the licensee must release a minimum flow of 200 cubic feet per second (cfs) from the Oakdale Dam for the preservation of federally endangered mussel species which inhabit the Tippecanoe River downstream of the project reservoirs. Due to regional drought conditions affecting the project watershed, the release of 200 cfs downstream of the project, at times, may not be equal to project inflow and therefore may result in the lake elevations deviating from the ±0.25 feet NGVD range as stated in Article 403 of the project license. The licensee requests the variance until December 1, 2012, or until an earlier date if drought conditions improve.

l. Locations of the Application: A copy of the application is available for inspection and reproduction at the Commission's Public Reference Room, located at 888 First Street NE., Room 2A, Washington, DC 20426, or by calling 202-502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov; for TTY, call 202-502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”; “PROTESTS”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: August 8, 2012.
Kimberly D. Bose,
Secretary.

[FR Doc. 2012-19868 Filed 8-13-12; 8:45 am]

BILLING CODE 6717-01-P